NATIONAL SCIENCE FOUNDATION (NSF)

Sunshine Act Meetings; National Science Board

The National Science Board, pursuant to NSF regulations (45 CFR Part 614), the National Science Foundation Act, as amended (42 U.S.C. 1862n-5), and the Government in the Sunshine Act (5 U.S.C. 552b), hereby gives notice of the scheduling of meetings for the transaction of National Science Board business, as follows:

DATE AND TIME: February 25, 2014 from 9:00 a.m. to 4:30 p.m., and February 26 from 7:30 a.m. to 2:45 p.m.

PLACE: These meetings will be held at the National Science Foundation, 4201 Wilson Blvd., Room 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to www.tvworldwide.com/events/nsf/140225 http://www.tvworldwide.com/events/nsf/130509/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

OPEN SESSIONS:

February 25, 2014

9:00-9:05 a.m. (Chairman's introduction)

9:05-10:30 a.m. (Joint CPP/CSB)

10:45-11:30 a.m. (SCF)

11:30-11:45 a.m. (CSB)

12:45-3:15 p.m. (CPP)

February 26, 2014

7:30-9:30 a.m. (AB)

9:30-10:15 a.m. (A&O)

10:30-11:00 a.m. (SEI)

1:30-2:45 p.m. (Plenary)

CLOSED SESSIONS:

February 25, 2014

3:00-4:15 p.m. (CPP)

4:00-4:30 p.m. (CSB)

February 26, 2014

11:00-11:30 a.m. (Plenary executive closed)

11:30 a.m.-12:15 p.m. (Plenary closed)

MATTERS TO BE DISCUSSED:

Tuesday, February 25, 2014

Joint Meeting: Committee on Programs and Plans/Committee on Strategy and Budget (CPP/CSB)

Open Session: 9:05-10:30 a.m.

• Committee Chairmen's remarks

• Discussion item: NSF Annual Facility Plan

CSB Subcommittee on Facilities (SCF)

Open Session: 10:45-11:30 a.m.

• Chairman's remarks

• FY 2013 Annual Portfolio Review (APR) of Facilities

• FY 2013 APR Draft Recommendations

• Chairman's closing remarks, including FY 2014 APR of Facilities

Committee on Strategy and Budget (CSB)

Open Session: 11:30-11:45 a.m.

• Committee Chairman's remarks

• Approval of CSB open minutes for August 2013 meeting

• NSF FY 2014 budget update

• SCF update

Committee on Programs and Plans (CPP)

Open Session: 12:45-3:15 p.m.

• Approval of open CPP minutes for November 2013

• Committee Chairman's remarks—including annual CY 2014 schedule of action and written information items for NSB review

• NSB Information Item: The iPlant Collaborative

• NSB Information Item: Large Synoptic Survey Telescope (LSST)

• NSB Information Item: Atacama Large Millimeter Array (ALMA)

• CPP Program Portfolio Planning—Transformative Research to Innovating for Society through Talented People

Committee on Programs and Plans (CPP)

Closed Session: 3:15-4:00 p.m.

• Committee Chairman's remarks

• Approval of closed CPP minutes for November 2013

• NSB Information Item: Astronomy Portfolio

• NSB Information Item: Polar Issues/Antarctic Update

Committee on Strategy and Budget (CSB)

Closed Session: 4:00-4:30 p.m.

• Committee Chairman's remarks

• Approval of CSB closed minutes for August 2013 meeting

• FY 2015 and future budget development

Wednesday, February 26, 2014

Task Force on Administrative Burdens (AB)

Open Session: 7:30-9:30 a.m.

• Approval of the February 4, 2014 teleconference minutes

• Chairman's remarks

• Discussion Item: OMB's New Uniform Administrative Requirements, Cost Principles, and Audit Requirements for Federal Awards

• Discussion Item: Draft Report

Audit and Oversight Committee (A&O)

Open Session: 9:30-10:15 a.m.

• Approval of August 2013 open and closed meeting minutes

• Committee Chairman's opening remarks

• Inspector General's update, including

○ FY 2013 Financial Statement Audit

○ Annual Office of Audit Work Plan FY 2014

• Chief Financial Officer's update

• Committee Chairman's closing remarks

Committee on Science & Engineering Indicators (SEI)

Open Session: 10:30-11:00 a.m.

• Approval of August 15, 2013 minutes

• Committee Chairman's remarks

• Update on Indicators 2014 release

• Update on the “Digital Indicators” project

• Update on the companion report to Science and Engineering Indicators 2014 on STEM workforce

• Chairman's summary

Plenary Board Meeting

Executive Closed Session: 11:00-11:30 a.m.

• Approval of executive closed session minutes, November 2013 meeting

• Election of ad hoc Committee on Nominating for NSB Elections

• Approval of Honorary Award Recommendation

• Board member proposals

• Chairman's remarks

Plenary Board Meeting

Closed Session: 11:30 a.m.-12:15 p.m.

• Approval of closed session minutes, November 2013

• Discussion on risks to NSF

• Closed committee reports

• Chairman's remarks

Plenary Board Meeting

Open Session: 1:30-2:45 p.m.

• Approval of open session minutes, November 2013

• Chairman's report

• Director's report

• Open committee reports

• Chairman's remarks

Meeting Adjourns: 2:45 p.m.

Ann Bushmiller,
Senior Counsel to the National Science Board.

[FR Doc. 2014-03665 Filed 2-18-14; 11:15 am]

BILLING CODE 7555-01-P